DEPARTMENT OF THE INTERIOR

Bureau of Land Management

[LLCON01000 L0777 XX]

Notice of Public Meeting, BLM Colorado Northwest Resource Advisory Council, Correction, Cancellation of Meeting

AGENCY: Bureau of Land Management, Interior.

ACTION: Notice of public meeting; cancellation.

SUMMARY: The Bureau of Land Management (BLM) published a document in the Federal Register of April 28, 2009, notifying the public regarding meeting dates and locations for the BLM Colorado Northwest Resource Advisory Council (RAC). The meeting on December 3, 2009 has been cancelled.

SUPPLEMENTARY INFORMATION: The RAC meets in accordance with the Federal Land Policy and Management Act and the Federal Advisory Committee Act of 1972 (FACA), 5 U.S.C.

FOR FURTHER INFORMATION CONTACT: Jamie Connell, BLM Northwest Colorado District Manager, 2815 H Road, Grand Junction, CO 81506, 970-244-3000; or David Boyd, Public Affairs Specialist, 2300 River Frontage Road, Silt, CO 81652, 970-876-9008.

Dated: November 16, 2009.
Jamie Connell,
Designated Federal Official.

[FR Doc. E9-27938 Filed 11-19-09; 8:45 am]

BILLING CODE P